DEPARTMENT OF THE TREASURY

Submission for OMB Review; Comment Request

March 19, 2002.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW, Washington, DC 20220.

DATES: Written comments should be received on or before April 29, 2002, to be assured of consideration.

U.S. Mint

OMB Number: 1525-0012.

Form Number: None.

Type of Review: Extension.

Title: Generic Clearance for Voluntary Customer Surveys to Implement E.O. 12862 for the U.S. Mint, Coordinated by Business Alignment for Marketing and Sales and Circulating.

Description: This is a generic clearance for an undefined number of customer satisfaction and opinion surveys or focus group interviews to be conducted over the next three years. The information collected from these surveys will be used to improve Mint products and services.

Respondents: Individuals or households, business or other for-profit.

Estimated Number of Respondents: 10,390.

Estimated Burden Hours Per Response: Varies.

Frequency of Response: Other (varies).

Estimated Total Reporting Burden: 1,553 hours.

Clearance Officer: Mike Green (202) 634-8300, United States Mint, 1730 K. Street, NW, Suite 800, Washington, DC 20212.

OMB Reviewer: Alexander T. Hunt (202) 395-7860, Office of Management and Budget, Room 10202, New Executive Office Building, Washington, DC 20503.

Lois K. Holland,
Departmental Reports Management Officer.

[FR Doc. 02-7563 Filed 3-28-02; 8:45 am]

BILLING CODE 4810-37-P